DEPARTMENT OF JUSTICE

Notice of Lodging of Proposed Stipulation and Settlement Agreement Under the Clean Air Act

On September 19, 2016, the Department of Justice lodged a proposed Stipulation and Settlement Agreement with the United States District Court for the Central District of California in the lawsuit entitled United States v. Goldenvale, Inc., Civil Action No. 5:16-CV-443.

The United States filed this lawsuit under the Clean Air Act. The United States' complaint seeks injunctive relief and civil penalties for the importation and sale of highway motorcycles and recreational vehicles in violation of certification and labeling requirements of the Clean Air Act and its regulations. The settlement agreement requires the defendant to pay a civil penalty of $150,000 (which amount was based on an assessment of ability to pay) and prohibits the defendant from importing any vehicles unless they first enter into a compliance plan with the Environmental Protection Agency.

The publication of this notice opens a period for public comment on the settlement agreement. Comments should be addressed to the Assistant Attorney General, Environment and Natural Resources Division, and should refer to United States v. Goldenvale, Inc., D.J. Ref. No. 90-5-2-1-10415. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlement agreement may be examined and downloaded at this Justice Department Web site: https://www.justice.gov/enrd/consent-decrees. We will provide a paper copy of the settlement agreement upon written request and payment of reproduction costs. Please mail your request and payment to: Consent Decree Library, U.S. DOJ—ENRD, P.O. Box 7611, Washington, DC 20044-7611.

Please enclose a check or money order for $3.00 (25 cents per page reproduction cost) payable to the United States Treasury.

Karen S. Dworkin,
Assistant Section Chief, Environmental Enforcement Section Environment and Natural Resources Division.

[FR Doc. 2016-23328 Filed 9-27-16; 8:45 am]

BILLING CODE 4410-15-P